DEPARTMENT OF COMMERCE

National Oceanic and Atmospheric Administration

50 CFR Part 622

[I.D. 051106B]

RIN 0648-AT75

Fisheries of the Caribbean, Gulf of Mexico, and South Atlantic; Snapper-Grouper Fishery Off the Southern Atlantic States; Amendment 13C

AGENCY: National Marine Fisheries Service (NMFS), National Oceanic and Atmospheric Administration (NOAA), Commerce.

ACTION: Announcement of availability of an amendment to a fishery management plan; request for comments.

SUMMARY: The South Atlantic Fishery Management Council (Council) has submitted Amendment 13C to the Fishery Management Plan for the Snapper-Grouper Fishery of the South Atlantic Region (FMP) for review, approval, and implementation by NMFS. The amendment would end overfishing of snowy grouper, golden tilefish, vermilion snapper, and black sea bass, and increase the catch of red porgy consistent with an updated stock assessment.

DATES: Comments must be received no later than 5 p.m., eastern time, on July 17, 2006.

ADDRESSES: You may submit comments by any of the following methods:

• E-mail: 0648-AT75.NOA@noaa.gov. Include in the subject line the following document identifier: 0648-AT75.

• Federal e-Rulemaking Portal: http://www.regulations.gov. Follow the instructions for submitting comments.

• Mail: Julie Weeder, Southeast Regional Office, NMFS, 263 13th Avenue South, St. Petersburg, FL 33701.

• Fax: 727-824-5308; Attention: Julie Weeder.

Copies of Amendment 13C, which includes a Final Environmental Impact Statement, a Regulatory Impact Review, and an Initial Regulatory Flexibility Analysis, are available from the South Atlantic Fishery Management Council, 1 Southpark Circle, Suite 306, Charleston, SC 29407-4699; e-mail: safmc@safmc.net.

FOR FURTHER INFORMATION CONTACT: Julie Weeder, 727-551-5753; fax: 727-824-5308; e-mail: julie.weeder@noaa.gov.

SUPPLEMENTARY INFORMATION: The snapper-grouper fishery off the southern Atlantic states is managed under the FMP. The FMP was prepared by the Council and is implemented under the authority of the Magnuson-Stevens Fishery Conservation and Management Act (Magnuson-Stevens Act) by regulations at 50 CFR part 622.

The Magnuson-Stevens Act requires a regional fishery management council to submit any amendment to a fishery management plan to NMFS for review, approval, disapproval, or partial approval. The Magnuson-Stevens Act also requires that NMFS, upon receiving an amendment, publish a notice in the Federal Register stating that the amendment is available for public review and comment.

Background

The Council began developing the actions in Amendment 13C in 2003 to eliminate or phase out overfishing of snowy grouper, golden tilefish, vermilion snapper, and black sea bass, as mandated by the Magnuson-Stevens Act. The amendment will also allow an increase in the catch of red porgy, consistent with an updated stock assessment.

Proposed Actions

Amendment 13C, if implemented, would reduce and phase in the snowy grouper quota and trip limit over 3 years and limit possession to one per person per day within the 5-grouper per person per day aggregate recreational bag limit. For golden tilefish, the annual commercial quota and trip limit would be reduced. The golden tilefish commercial trip limit would be further reduced each year if 75 percent of the quota was taken by September 1, in an attempt to achieve a year-round fishery. For the recreational sector, possession would be limited to one per person per day within the 5-grouper per person per day aggregate bag limit. An annual commercial quota would be established for vermilion snapper, and the recreational minimum size limit would increase from 11 inches (27.9 cm) total length (TL) to 12 inches (30.5 cm) TL. For black sea bass, an annual commercial quota would be established and phased in over 3 years; fishermen would be required to use at least 2-inch (5.1-cm) mesh for the entire back panel of black sea bass pots; the commercial and recreational fishing year would change from the calendar year to June 1 through May 31; and black sea bass pots would be required to be removed from the water once the commercial quota is met. A black sea bass recreational allocation would also be established and would be phased in over 3 years; the recreational size limit would increase from 10 inches (25.4 cm) TL to 12 inches (30.5 cm) TL and be phased in over 2 years; and the recreational bag limit would be reduced from 20 to 15 per person per day. For red porgy, a commercial quota would be established, the commercial trip limit would be increased, and the recreational bag limit would increase from 1 to 3 red porgy per person per day.

The Council believes these actions provide the most biological, social, and economic benefits while allowing for adaptive management. The Magnuson-Stevens Act requires the regional fishery management councils and NMFS to implement measures to end overfishing. Recent stock assessments indicated snowy grouper, golden tilefish, vermilion snapper, and black sea bass are undergoing overfishing, and that red porgy is rebuilding from an overfished status and is not undergoing overfishing. This action proposes measures to reduce harvests and end overfishing of these species. Additional background and rationale for the measures discussed above are contained in Amendment 13C.

Proposed Rule

A proposed rule that would implement the measures in Amendment 13C has been received from the Council. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

Comments received by the end of the comment period on the notice of availability of the FMP, whether specifically directed to the FMP or the proposed rule, will be considered by NMFS in its decision to approve, disapprove, or partially approve Amendment 13C. Comments received after that date will not be considered by NMFS in this decision. All comments received by NMFS on Amendment 13C or the proposed rule during their respective comment periods will be addressed in the preamble of the final rule.

Authority: 16 U.S.C. 1801 et seq.

Dated: May 12, 2006.
Alan D. Risenhoover,
Acting Director, Office of Sustainable Fisheries, National Marine Fisheries Service.

[FR Doc. E6-7586 Filed 5-17-06; 8:45 am]

BILLING CODE 3510-22-S